DEPARTMENT OF COMMERCE

National Oceanic and Atmospheric Administration

[RTID 0648-XE167]

International Whaling Commission; 69th Meeting; Announcement of Public Meeting

AGENCY: National Marine Fisheries Service (NMFS), National Oceanic and Atmospheric Administration (NOAA), Commerce.

ACTION: Notice of public meeting.

SUMMARY: This notice announces the date, time, and access information of the public meeting being held, in a virtual format, prior to the 69th meeting of the International Whaling Commission (IWC). The meeting is open to U.S. citizens only.

DATES: The public meeting will be held August 26, 2024, at 3 p.m. EDT.

ADDRESSES: The meeting will be held in a virtual/online format. Attendees must register in advance to attend the public meeting at the following link: https://noaanmfs-meets.webex.com/weblink/register/r938f01ef8632b12ac92ef60c5ba811f2.

FOR FURTHER INFORMATION CONTACT: Madison Harris, Madison.Harris@noaa.gov or (301) 427-8371.

SUPPLEMENTARY INFORMATION: The Secretary of Commerce is responsible for implementing the domestic obligations of the United States under the International Convention for the Regulation of Whaling, 1946. The U.S. IWC Commissioner has responsibility for the preparation and negotiation of U.S. positions on international issues concerning whaling and for all matters involving the IWC. The U.S. IWC Commissioner is staffed by the Department of Commerce and assisted by the Department of State, the Marine Mammal Commission, and other U.S. Government agencies.

The IWC will hold its 69th meeting in Lima, Peru on September 23-27, 2024. Additional information about the IWC meeting, including a draft agenda for the meeting, is posted on the IWC Secretariat's website at https://iwc.int/events-and-workshops/iwc69-2024.

NOAA will hold a public meeting on August 26, 2024, to discuss the tentative U.S. positions for the September 2024 IWC meeting. Any U.S. citizen with an identifiable interest in U.S. whale conservation and management policy may participate, but NOAA reserves the authority to inquire about the interests of any person who appears at the meeting and determine the appropriateness of that person's participation. In particular, persons who represent foreign interests may not attend. Persons deemed by NOAA to be ineligible to attend will be asked to leave the meeting. These measures are necessary to limit statements to those conveying U.S. interests.

The August 26 meeting will be held at 3 p.m. EDT in a virtual format. Meeting access and conferencing platform information will be sent to those who register. To participate, interested persons must register in advance via the following link: https://noaanmfsmeets.webex.com/weblink/register/r938f01ef8632b12ac92ef60c5ba811f.

Special Accommodations

Requests for sign language interpretation or other auxiliary aids should be directed to Madison Harris, Madison.Harris@noaa.gov or (301) 427-8371, by August 12, 2024.

Dated: August 2, 2024.
Alexa Cole,
Director, Office of International Affairs, Trade, and Commerce, National Marine Fisheries Service.

[FR Doc. 2024-17427 Filed 8-6-24; 8:45 am]

BILLING CODE 3510-22-P